DEPARTMENT OF HOMELAND SECURITY

Coast Guard

[Docket No. USCG-2008-0017]

Commercial Fishing Industry Vessel Safety Advisory Committee; Vacancies

AGENCY: Coast Guard, DHS.

ACTION: Request for applications.

SUMMARY: The Coast Guard seeks applications for membership on the Commercial Fishing Industry Vessel Safety Advisory Committee (CFIVSAC). The CFIVSAC provides advice and makes recommendations to the Coast Guard for improving commercial fishing industry safety practices.

DATES: Applications for membership should reach the Coast Guard at the address below on or before June 1, 2008.

ADDRESSES: You may request an application form by writing to Commandant (CG-5433), U.S. Coast Guard, 2100 Second Street, SW., Washington, DC 20593-0001; by calling 202-372-1249; or by faxing 202-372-1917. Send your application in written form to the above street address. This notice and the application form are available on the Internet at http://www.FishSafe.info.

FOR FURTHER INFORMATION CONTACT: Mr. Mike Rosecrans, a Designated Federal Officer (DFO) of the CFIVSAC by telephone at 202-372-1245, fax 202-372-1917, e-mail: Michael.M.Rosecrans@uscg.mil.

SUPPLEMENTARY INFORMATION: The CFIVSAC is an advisory committee established in accordance with the provisions of the Federal Advisory Committee Act (FACA) 5 U.S.C. (Pub. L. 92-463). The Coast Guard chartered the CFIVSAC to provide advice on issues related to the safety of commercial fishing industry vessels regulated under Chapter 45 of Title 46, United States Code, which includes uninspected fishing vessels, fish processing vessels, and fish tender vessels. (See 46 U.S.C. 4508.)

The CFIVSAC meets at least once a year. It may also meet for other extraordinary purposes. Its subcommittees may gather throughout the year to prepare for meetings or develop proposals for the committee as a whole to address specific problems.

We will consider applications for six positions that expire or become vacant in October 2008 in the following categories: (a) Commercial Fishing Industry (four positions); (b) Equipment Manufacturer (one position); and (c) General Public (one position).

The CFIVSAC consists of 17 members as follows: (a) Ten members from the commercial fishing industry who reflect a regional and representational balance and have experience in the operation of vessels to which Chapter 45 of Title 46, United States Code applies, or as a crew member or processing line member on an uninspected fish processing vessel; (b) one member representing naval architects or marine surveyors; (c) one member representing manufacturers of vessel equipment to which Chapter 45 applies; (d) one member representing education or training professionals related to fishing vessel, fish processing vessel, or fish tender vessel safety, or personnel qualifications; (e) one member representing underwriters that insure vessels to which Chapter 45 applies; and (f) three members representing the general public including, whenever possible, an independent expert or consultant in maritime safety and a member of a national organization composed of persons representing owners of vessels to which Chapter 45 applies and persons representing the marine insurance industry.

Each member serves a 3-year term. Members may serve consecutive terms. All members serve at their own expense and receive no salary from the Federal Government, although travel reimbursement and per diem may be provided.

In support of the policy of the Coast Guard on gender and ethnic diversity, qualified women and minorities are encouraged to apply for membership.

If you are selected as a non-representative member, or as a member who represents the general public, you will be appointed and serve as a Special Government Employee (SGE) as defined in section 202(a) of title 18, United States Code. As candidates for appointment as an SGE, applicants are required to complete a Confidential Financial Disclosure Report (OGE From 450). A completed OGE Form 450 is not releasable to the public except under an order issued by a Federal court or as otherwise provided under the Privacy Act (5 U.S.C. 552a). Only the Designated Agency Ethics Official or the DAEO's designate may release a Confidential Disclosure Report.

Dated: January 31, 2008.
J.G. Lantz,
Director of Commercial Regulations and Standards.

[FR Doc. E8-2680 Filed 2-12-08; 8:45 am]

BILLING CODE 4910-15-P